DEPARTMENT OF HEALTH AND HUMAN SERVICES

Centers for Disease Control and Prevention

[Program Announcement 01154]

Expansion of Prevention, Care and HIV/AIDS Surveillance Activities for Injection Drug Users With the Bangkok Metropolitan Administration, Bangkok, Thailand; Notice of Availability of Funds

Amendment

A notice announcing the availability of fiscal year (FY) 2001 funds for a cooperative agreement program for expansion of prevention, care and HIV/AIDS surveillance activities for injection drug users with the Bangkok Metropolitan Administration, Thailand, was published in the Federal Register on July 25, 2001, [Vol. 66, No. 143, Pages 38706-38707]. The notice is amended as follows:

On page 38706, First Column, Under Title, delete: “for Injection Drug Users.”

On page 38706, First Column, Under Section A. Purpose, first paragraph, delete “among injection drug users (IDUs).”

On page 38706, First Column, Under Section A. Purpose, second paragraph, delete “among IDUs.”

On page 38706, Third Column, Under Section C. Availability of Funds, Subsection Use of Funds, delete “Funds received from this announcement may not be used for the direct purchase of antiretroviral drugs for treatment of established HIV infection (with the exception of nevirapin in PMTCT cases and with prior written approval), occupational exposures, and non-occupational exposures and will not be used for the purchase of machines and reagents to conduct the necessary laboratory monitoring for patient care.” and change to “The purchase of antiretrovirals, reagents, and laboratory equipment for antiretroviral treatment projects requires pre-approval from the Global AIDS Program headquarters.”

Dated: May 26, 2002.
Sandra R. Manning,
CGFM, Director, Procurement and Grants Office, Centers for Disease Control and Prevention (CDC).

[FR Doc. 02-13781 Filed 5-31-02; 8:45 am]

BILLING CODE 4163-18-P